ENVIRONMENTAL PROTECTION AGENCY

[EPA-HQ-OW-2024-0158; FRL-11254-01-OW]

RIN 2040-ZA43

Preliminary Effluent Guidelines Program Plan 16

AGENCY: Environmental Protection Agency (EPA).

ACTION: Notice of availability.

SUMMARY: This notice announces the availability of the U.S. Environmental Protection Agency's (EPA) Preliminary Effluent Guidelines Program Plan 16 (Preliminary Plan 16) and solicits public comment. The Clean Water Act (CWA) requires the EPA to biennially publish a plan for new and revised effluent limitations guidelines and pretreatment standards, after public review and comment. Preliminary Plan 16 discusses the EPA's 2022 and 2023 annual reviews of effluent guidelines and pretreatment standards, presents its preliminary review of specific industrial categories, and provides an update on the analyses and tools that the EPA is continuing to enhance to further improve its annual review and biennial planning process.

DATES: Comments must be received on or before January 17, 2025.

ADDRESSES: You may send comments, identified by Docket ID No. EPA-HQ-OW-2024-0158, by any of the following methods:

• Federal eRulemaking Portal: https://www.regulations.gov/(our preferred method). Follow the online instructions for submitting comments.

• Mail: U.S. Environmental Protection Agency, EPA Docket Center, Office of Water Docket, Mail Code 28221T, 1200 Pennsylvania Avenue NW, Washington, DC 20460.

• Hand Delivery or Courier: EPA Docket Center, WJC West Building, Room 3334, 1301 Constitution Avenue NW, Washington, DC 20004. The Docket Center's hours of operations are 8:30 a.m.—4:30 p.m., Monday—Friday (except Federal Holidays).

Instructions: All submissions received must include the Docket ID No. for this action. Comments received may be posted without change to https://www.regulations.gov/, including any personal information provided. For detailed instructions on sending comments and additional information on the process for this action, see the “Public Participation” heading of the SUPPLEMENTARY INFORMATION section of this document.

FOR FURTHER INFORMATION CONTACT: Doruntinë Rexhepi, Engineering and Analysis Division, Office of Water, 4303T, Environmental Protection Agency, 1200 Pennsylvania Avenue NW, Washington, DC 20460; telephone number: (202) 566-2532; email address: rexhepi.doruntine@epa.gov.

SUPPLEMENTARY INFORMATION:

I. Public Participation

Submit your comments, identified by Docket ID No. EPA-HQ-OW-2024-0158, at https://www.regulations.gov (our preferred method), or the other methods identified in the ADDRESSES section. Once submitted, comments cannot be edited or removed from the docket. The EPA may publish any comment received to its public docket. Do not submit to EPA's docket at https://www.regulations.gov any information you consider to be Confidential Business Information (CBI), Proprietary Business Information (PBI), or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). Please visit https://www.epa.gov/dockets/commenting-epa-dockets for additional submission methods; the full EPA public comment policy; information about CBI, PBI, or multimedia submissions; and general guidance on making effective comments.

II. General Information

A. Supporting Documents

A key document providing additional information is the Preliminary Effluent Guidelines Program Plan 16 document. Supporting documents providing further details are also available for review.

B. How can I get copies of these documents and other related information?

1. Docket. The EPA has established an official public docket for this action under Docket ID No. EPA-HQ-OW-2024-0158. The official public docket is the collection of materials that are available for public viewing at the Water Docket in the EPA Docket Center, (EPA/DC) EPA West, Room 3334, 1301 Constitution Ave. NW, Washington, DC 20004.

2. Electronic Access. You can access this Federal Register document electronically through the United States Government online source for Federal regulations at https://www.regulations.gov.

3. Internet access. Copies of the supporting documents are available at https://www.epa.gov/eg/effluent-guidelines-plan.

III. How Is This Document Organized

The outline of this document follows.

A. Legal Authority.

B. Request for Public Comments and Information.

A. Legal Authority

This notice is published under the authority of the CWA, 33 U.S.C. 1251, et seq., and in particular sections 301(d), 304(b), 304(g), 304(m), 306, 307(b), and 308 of the Act, 33 U.S.C. 1311(d), 1314(b), 1314(g), 1314(m), 1316, 1317(b), and 1318.

B. Request for Public Comments and Information

The EPA invites comment on the entirety of Preliminary Plan 16. In particular, the EPA invites comment on the following topics (see Preliminary Plan 16 for more information on these topics):

1. The order weighted average analysis including: the metrics used in the analysis to evaluate the industrial category rankings, the inclusion/exclusion of pollutant toxicity in annual review rankings, and results of the 2022 and 2023 annual rankings.

2. The findings of the preliminary category reviews, specifically the findings for Battery Manufacturing, Centralized Waste Treatment, and Oil and Gas Extraction Categories.

3. The preliminary category review schedule and tools described to support the EPA's review of effluent guidelines.

4. The capabilities, performance, and costs of treatment technologies for industrial wastewater to support the Agency's technology reviews.

5. The announcement made within Preliminary Plan 16 of the EPA's intent to prepare a generic ICR to support effluent guidelines planning and rulemakings.

6. The announcement made within Preliminary Plan 16 of an online form on the CWA methods website to request new analytical methods for wastewater and surface waters.

7. The announcements made within Preliminary Plan 16 regarding new studies.

Bruno Pigott,
Principal Deputy Assistant Administrator.

[FR Doc. 2024-29860 Filed 12-17-24; 8:45 am]

BILLING CODE 6560-50-P